DEPARTMENT OF LABOR

Employment and Training Administration

[TA-W-54,515]

Eastman Kodak Company, Customer Service Call Center, Rochester, New York; Notice of Termination of Investigation

Pursuant to section 221 of the Trade Act of 1974, as amended, an investigation was initiated on March 16, 2004, in response to a petition filed by the company on behalf of workers at Eastman Kodak Company, Customer Service Call Center, Rochester, New York.

The petitioner has requested that the petition be withdrawn. Consequently, further investigation in this case would serve no purpose, and the investigation has been terminated.

Signed at Washington, DC, this 7th day of May, 2004.
Elliott S. Kushner,
Certifying Officer, Division of Trade Adjustment Assistance.

[FR Doc. 04-12380 Filed 6-1-04; 8:45 am]

BILLING CODE 4510-30-P